DEPARTMENT OF TRANSPORTATION

Federal Motor Carrier Safety Administration

[Docket No. FMCSA-2004-17970]

Agency Information Collection Submission for OMB Review: Motor Carrier Safety Assistance Program (MCSAP)

AGENCY: Federal Motor Carrier Safety Administration (FMCSA), DOT.

ACTION: Notice.

SUMMARY: The FMCSA announces that the Information Collection Request (ICR) described in this notice is being sent to the Office of Management and Budget (OMB) for review and approval. The FMCSA is requesting OMB's continued approval of the information that is required for the Motor Carrier Safety Assistance Program (MCSAP). That information consists of grant application preparation, quarterly reports and electronic data documenting the results of driver/vehicle inspections performed by the States. The Federal Register notice announcing a 60-day comment period on this information collection was published on April 15, 2004 (69 FR 20111). We are required to send ICRs to OMB under the Paperwork Reduction Act of 1995.

DATES: Please submit comments by August 9, 2004.

ADDRESSES: Mail or hand deliver comments to the U. S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Mr. James D. McCauley, (202) 366-0133, Office of Safety Programs, Federal Motor Carrier Safety Administration, Department of Transportation, 400 Seventh Street, SW., Washington, DC 20590. Office hours are from 7:30 a.m. to 4 p.m., e.t., Monday through Friday, except Federal holidays.

SUPPLEMENTARY INFORMATION: Title: Motor Carrier Safety Assistance Program.

OMB Number: 2126-0010.

Background: Sections 401-404 of the Surface Transportation Assistance Act of 1982 (STAA) (Pub. L. 97-424, Stat. 2079, 2154) established a program of financial assistance to States for the purpose of implementing programs to enforce: (a) Federal rules, regulations, standards and orders applicable to commercial motor vehicle safety; and (b) compatible State rules, regulations, standards and orders. This grant-in-aid program is known as the Motor Carrier Safety Assistance Program (MCSAP). The Intermodal Surface Transportation Efficiency Act of 1991 (ISTEA) (49 U.S.C. 31101-31104, as amended) added programs, such as drug interdiction, traffic enforcement and size and weight activities to the core program established by the STAA.

The Transportation Equity Act for the 21st Century (TEA-21) (Pub. L. 105-178, 112 Stat.107 (June 9, 1998)) further revised the MCSAP by broadening its purpose beyond enforcement activities and programs by requiring participating States to assume greater responsibility for improving motor carrier safety. The TEA-21 required States to develop performance-based plans reflecting national priorities and performance goals, revised the MCSAP funding distribution formula and created a new incentive funding program. As a result, States are given greater flexibility in designing programs to address national and State goals for reducing the number and severity of commercial motor vehicle (CMV) accidents. The implementing regulations were published in the Federal Register on March 21, 2000 (65 FR 15092).

In order to qualify for a grant, participating States must submit a Commercial Vehicle Safety Plan (CVSP). After the grant is awarded, States must submit inspection data and quarterly reports explaining work activities and accomplishments. The FMCSA monitors and evaluates a State's progress under its approved CVSP. The agency also determines whether a change in the State's level of effort is required to meet the intended objectives of the CVSP. If a State fails to operate within the guidelines of the approved CVSP or does not remedy any identified deficiencies or incompatibilities in a timely manner, the FMCSA may cease participation in that State's CVSP. This information collection provides the basis for these responsibilities and decisions.

States submit the CVSP in hard copy. The quarterly report and inspection data continue to be collected electronically. The estimated annual burden for this collection increases slightly due to a growing number of driver/vehicle inspections.

Respondents: State and local MCSAP lead agencies.

Estimated Total Annual Burden: 11,854 hours (Grant application preparation: 848 hours; quarterly report preparation: 339 hours; and inspection data upload: 10,667 hours). The above figures reflect 20 percent of the total estimated hours to perform the activities listed since MCSAP reimburses up to 80 percent of the eligible costs incurred in the administration of an approved plan as set forth in 49 CFR 350.303, 350.309 and 350.311.

Authority: The Paperwork Reduction Act of 1995; 44 U.S.C. chapter 35, as amended; Pub. L. 97-424, Stat. 2079, 2154 (1982); 49 U.S.C. 31101-31104; Pub. L. 105-178, 112 Stat.107 (1998); and 49 CFR 1.73.

Issued on: July 2, 2004.
Warren E. Hoemann,
Deputy Administrator.

[FR Doc. 04-15650 Filed 7-8-04; 8:45 am]

BILLING CODE 4910-EX-P